FEDERAL MARITIME COMMISSION

Ocean Transportation Intermediary License; Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/Address | Date Reissued
4444N | Lloyd International, Inc., 931 Main Street, Norwell, MA 02061 | January 10, 2001.
16562F | U.S. Brokers (BOS) Inc., 331-333 Northern Avenue, Boston, MA 02210 | January 18, 2001.
15917N | Golden Jet-L.A., Inc., dba Golden Jet Freight Forwarders, 12333 S. Van Ness Avenue, Suite 201, Hawthorne, CA 90250 | January 14, 2001.
2023F | Pike Shipping Co., Inc., 2 Canal Street, 22nd Floor, New Orleans, LA 70130 | January 30, 2001.

Sandra L. Kusumoto,
Director, Bureau of Consumer Complaints and Licensing.

[FR Doc. 01-7688 Filed 3-28-01; 8:45 am]

BILLING CODE 6730-01-P